DEPARTMENT OF COMMERCE

International Trade Administration

[A-570-007, C-533-909]

Barium Chloride From the People's Republic of China and India: Final Results of Changed Circumstances Reviews and Revocation of the Antidumping Duty and Countervailing Duty Orders

AGENCY: Enforcement and Compliance, International Trade Administration, Department of Commerce.

SUMMARY: The U.S. Department of Commerce (Commerce) is revoking the antidumping duty (AD) order on barium chloride from the People's Republic of China (China) and the countervailing duty (CVD) order on barium chloride from India.

DATES: Applicable November 5, 2024.

FOR FURTHER INFORMATION CONTACT: Megan Goins, AD/CVD Operations, Office V (China), and Harrison Tanchuck, AD/CVD Operations, Office VI (India), Enforcement and Compliance, International Trade Administration, U.S. Department of Commerce, 1401 Constitution Avenue NW, Washington, DC 20230; telephone: (202) 482-0884 and (202) 482-7421.

SUPPLEMENTARY INFORMATION:

Background

On October 17, 1984, Commerce issued the AD order on barium chloride from China, and on March 7, 2023, Commerce issued the CVD order on barium chloride from India.¹ On September 18, 2024, Commerce published the initiation and preliminary results of the changed circumstances reviews (CCRs) and revocation of the Orders pursuant to section 751(b)(1) of the Tariff Act of 1930, as amended (the Act), and 19 CFR 351.216(b) and 19 CFR 351.222.² We invited interested parties to comment on the Preliminary Results. Honeywell International Inc (Honeywell) submitted comments agreeing with the Preliminary Results and stating that Commerce's general practice in these cases is to liquidate without regard to antidumping and/or countervailing duties, and to refund any estimated antidumping and/or countervailing duties, on all unliquidated entries of the merchandise covered by a revocation that are not covered by the final results of an administrative review or automatic liquidation instructions. Honeywell, therefore, requested that Commerce revoke the AD Order with an effective date of October 1, 2023, and revoke the CVD Order with an effective date of June 17, 2022.³ We did not receive comments from any other interested party.

¹ See Antidumping Duty Order; Barium Chloride from the People's Republic of China, 49 FR 40635 (October 17, 1984) (AD Order); and Barium Chloride from India: Countervailing Duty Order, 88 FR 14120 (March 7, 2023) (CVD Order) (collectively, Orders).

² See Barium Chloride from the People's Republic of China and India: Initiation and Preliminary Results of Changed Circumstances Review and Intent to Revoke the Antidumping Duty and Countervailing Duty Orders, 89 FR 76448 (September 18, 2024) (Initiation and Preliminary Results).

³ See Honeywell's Letter, “Case Brief,” dated September 25, 2024 (Case Brief).

Scope of the Orders

The merchandise covered by the Orders is barium chloride, a chemical compound having the formulas BaC12 or BaC12-2H20, currently classifiable under subheading 2827.39.4500 of the Harmonized Tariff Schedule of the United States (HTSUS).⁴ Although the HTSUS subheading is provided for convenience and customs purposes, the written description of the scope of these Orders is dispositive.

⁴ The scope reflects the HTSUS subheading currently in effect.

Final Results of Changed Circumstances Reviews and Revocation of the Orders

Because no party submitted comments objecting to the Preliminary Results of these CCRs, and the record contains no further information or evidence that weighs against the proposed revocations, Commerce determines, pursuant to sections 751(d)(1) and 782(h) of the Act, and 19 CFR 351.222(g), that there are changed circumstances that warrant revocation of the Orders. Specifically, in light of Chemical Products Corporation's (the petitioner) lack of objection to these CCRs, the petitioner's indication that it does not have an interest in the Orders,⁵ and the absence of comments from any interested party opposing the Initiation and Preliminary Results, we find that producers accounting for substantially all of the production of the domestic like product to which the Orders pertain lack interest in the relief provided by the Orders. Accordingly, we are revoking the Orders.

⁵ See Initiation and Preliminary Results, 89 FR at 76449; see also Honeywell's Letters, “Barium Chloride from the People's Republic of China: Changed Circumstances Review Request,” dated August 6, 2024 at 3 and Exhibit 1; and “Barium Chloride from India: Changed Circumstances Review Request,” dated September 5, 2024 at 5 and Exhibit 4.

Application of the Final Results of the CCRs

Section 751(d)(3) of the Act provides that “{a} determination under this section to revoke an order . . . shall apply with respect to unliquidated entries of subject merchandise which are entered, or withdrawn from warehouse, for consumption on or after the date determined by the administering authority.” Commerce's general practice is to instruct U.S. Customs and Border Protection (CBP) to liquidate without regard to antidumping or countervailing duties, and to refund any estimated antidumping or countervailing duties on, all unliquidated entries of the merchandise covered by a revocation that are not covered by the final results of an administrative review or automatic liquidation instruction.⁶ Consistent with our practice, we are applying the final results of these CCRs to all unliquidated entries of the merchandise covered by the AD Order which have been entered, or withdrawn from warehouse, for consumption on or after October 1, 2023, i.e., the day following the last day of the period covered by the most recently-completed administrative review of the AD Order, and that are not already subject to automatic liquidation instructions; ⁷ and to all unliquidated entries covered by the CVD Order which have been entered, or withdrawn from warehouse, for consumption on or after January 1, 2024, i.e., the day following the last day of the period covered by the most recently-completed administrative review of the CVD Order, and that are not already subject to automatic liquidation instructions.⁸

⁶ See, e.g., Certain Pasta from Italy: Final Results of Countervailing Duty Changed Circumstances Review and Revocation, In Part, 76 FR 27634 (May 12, 2011); Stainless Steel Bar from the United Kingdom: Notice of Final Results of Changed Circumstances Review and Revocation of Order, in Part, 72 FR 65706 (November 23, 2007); Notice of Final Results of Antidumping Duty Changed Circumstances Review and Revocation of Order In Part: Certain Corrosion-Resistant Carbon Steel Flat Products from Germany, 71 FR 66163 (November 13, 2006); Notice of Final Results of Antidumping Duty Changed Circumstances Reviews and Revocation of Orders in Part: Certain Corrosion-Resistant Carbon Steel Flat Products from Canada and Germany, 71 FR 14498 (March 22, 2006); and Notice of Final Results of Antidumping Duty Changed Circumstances Review, and Determination to Revoke Order in Part: Certain Cased Pencils from the People's Republic of China, 68 FR 62428 (November 4, 2003).

⁷ See Case Brief at 5; see also Antidumping or Countervailing Duty Order, Finding, or Suspended Investigation; Opportunity To Request Administrative Review and Join Annual Inquiry Service List, 88 FR 68098 (October 3, 2023); and Initiation of Antidumping and Countervailing Duty Administrative Reviews, 88 FR 84784 (December 6, 2023).

⁸ See Rescission of Antidumping and Countervailing Duty Administrative Reviews, 89 FR 84117 (October 22, 2024) (Rescission Notice). Honeywell requested that Commerce revoke the CVD Order with an effective date of the preliminary determination in the underlying investigation, i.e., June 17, 2022. See Case Brief at 5. However, because the opportunity to request the first administrative review occurred in March, 2024, and Commerce issued automatic liquidation instructions for the period June 17, 2022, through December 31, 2023, on June 18, 2024, it is not appropriate to make the revocation effective June 17, 2022. Additionally, Honeywell's Case Brief was submitted prior to the publication of this Rescission Notice. Honeywell agrees that Commerce should liquidate without regard to antidumping and/or countervailing duties, and to refund any estimated antidumping and/or countervailing duties, on all unliquidated entries of the merchandise covered by a revocation that are not covered by the final results of an administrative review or automatic liquidation instruction. See Case Brief at 4. Because entries made under the CVD Order through December 31, 2023, are subject to either automatic liquidation or liquidation instructions pursuant to the Rescission Notice, consistent with Honeywell's request, the effective date of the revocation of the CVD Order is January 1, 2024.

Instructions to CBP

Because we determine that there are changed circumstances that warrant revocation of the Orders, we will instruct CBP to discontinue the suspension of liquidation and the collection of cash deposits of estimated antidumping and countervailing duties, to liquidate all unliquidated entries that were entered, or withdrawn from warehouse, on or after October 1, 2023 (AD Order) or January 1, 2024 (CVD Order), without regard to antidumping and countervailing duties, respectively, and to refund all antidumping duty and countervailing duty cash deposits on all such merchandise.

Commerce intends to issue instructions to CBP no earlier than 35 days after the date of publication of these final results and revocation in the Federal Register. If a timely summons is filed at the U.S. Court of International Trade, the assessment instructions will direct CBP not to liquidate relevant entries until the time for parties to file a request for a statutory injunction has expired (i.e., within 90 days of publication).

Administrative Protective Order

This notice serves as the final reminder to parties subject to an administrative protective order (APO) of their responsibility concerning the disposition of proprietary information disclosed under APO in accordance with 19 CFR 351.305(a)(3). Timely written notification of return or destruction of APO materials or conversion to judicial protective order is hereby requested. Failure to comply with the regulations and terms of an APO is a violation subject to sanction.

Notification to Interested Parties

We are issuing and publishing these final results in accordance with sections 751(a)(1), 751(b), and 777(i) of the Act and 19 CFR 351.213(d)(4), 19 CFR 351.216, and 19 CFR 351.222.

Dated: October 29, 2024.
Ryan Majerus,
Deputy Assistant Secretary for Policy and Negotiations, performing the non-exclusive functions and duties of the Assistant Secretary for Enforcement and Compliance.

[FR Doc. 2024-25613 Filed 11-4-24; 8:45 am]

BILLING CODE 3510-DS-P